FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 17, 2010.

A. Federal Reserve Bank of Philadelphia (Michael E. Collins, Senior Vice President) 100 North 6th Street, Philadelphia, Pennsylvania 19105-1521:

1. James Wang, individually, and James Wang and Ellen Ruth Kao Wang, Villanova, Pennsylvania; Tony Yi Ping Wang and Michelle Yichun Yang, Gladwyne, Pennsylvania; Elliot Hong Wai Wong, Philadelphia, Pennsylvania; Josephine Wang, Gladwyne, Pennsylvania; Aubrey Hui-Ju Wang, Havertown, Pennsylvania; and Janet Wang Calilung, Irvine, California; to acquire voting shares of Asian Financial Corporation, and thereby indirectly acquire voting shares of Asian Bank, both of Philadelphia, Pennsylvania.

B. Federal Reserve Bank of Minneapolis (Jacqueline G. King, Community Affairs Officer) 90 Hennepin Avenue, Minneapolis, Minnesota 55480-0291:

1. Rick E. and Kathy A. Skates, both of Polson, Montana; to acquire shares of Flathead Lake Bancorporation, Inc., and thereby indirectly acquire shares of First Citizens Bank of Polson, National Association, both of Polson, Montana.

C. Federal Reserve Bank of San Francisco (Kenneth Binning, Vice President, Applications and Enforcement) 101 Market Street, San Francisco, California 94105-1579:

1. LG C-Co, LLC; Green Equity Investors V, L.P.; Leonard Green & Partners, L.P.; Green Equity Investors Side V, L.P.; GEI V Offshore Investors, L.P.; GEI V Special Investors, L.P.; Green V Holdings, LLC; GEI Capital V, LLC; and LGP Management, Inc., all of Los Angeles, California; John G. Danhakl, Pacific Palisades, California; Peter J. Nolan, Manhattan Beach, California; and Jonathan D. Sokoloff, Los Angeles, California; to acquire control of Cascade Bancorp, and thereby indirectly acquire control of Bank of the Cascades, both of Bend, Oregon.

2. WLR CB Acquisition Co LLC, WL Ross & Co. LLC, WLR Recovery Fund IV, L.P., WLR IV Parallel ESC, L.P. IV, Invesco North America Holdings, Inc., Invesco WLR IV Associates LLC, WLR Recovery Associates IV LLC, WL Ross Group L.P., El Vedado LLC, all of New York, New York; Wilbur L. Ross, Jr., Palm Beach, Florida; Invesco Ltd., Invesco Group Services, IVZ, Inc., Invesco Group Services, Inc., Invesco Advisers, Inc., Invesco Private Capital, Inc., all of Atlanta, Georgia; Invesco Holding Company Limited, London, United Kingdom; and Invesco AIM Management Group, Inc., Houston, Texas; to acquire control of Cascade Bancorp, and thereby indirectly acquire control of Bank of the Cascades, both of Bend, Oregon.

3. ACMO-CPF, L.L.C., New York, New York, and persons that are acting with or control ACMO-CPF, L.L.C. (Anchorage Capital Master Offshore, Ltd., ACPO Master, L.P., Anchorage Capital Partners Offshore, Ltd., ACPO Master, Ltd., all of Grand Cayman, Cayman Islands; Anchorage Capital Partners, L.P., Anchorage Capital Group, L.L.C. (f/k/a Anchorage Advisors, L.L.C.), Anchorage Capital, L.L.C. (f/k/a Anchorage Capital Group, L.L.C.), Anchorage Capital Management, L.L.C., Anchorage Advisors Management, L.L.C., all of Wilmington, Delaware; and Kevin Ulrich and Anthony Davis, both of New York, New York; to acquire control of Central Pacific Financial Corp., and thereby indirectly acquire control of Central Pacific Bank, both of Honolulu, Hawaii.

4. DBD Cayman, Limited, TCG Holdings Cayman II, L.P., TC Group Cayman Investment Holdings, L.P., Carlyle Financial Services, Ltd., TCG Financial Services, L.P., all of Grand Cayman, Cayman Islands; and Carlyle Financial Services Harbor, L.P., Wilmington, Delaware; to acquire control of Central Pacific Financial Corp., and thereby indirectly acquire control of Central Pacific Bank, both of Honolulu, Hawaii.

Board of Governors of the Federal Reserve System, November 29, 2010.
Robert deV. Frierson,
Deputy Secretary of the Board.

[FR Doc. 2010-30283 Filed 12-1-10; 8:45 am]

BILLING CODE 6210-01-P